DEPARTMENT OF COMMERCE

National Oceanic and Atmospheric Administration

Advisory Committee on Commercial Remote Sensing

ACTION: Notice to establish an Advisory Committee on Commercial Remote Sensing.

SUMMARY: In accordance with the provisions of the Federal Advisory Committee Act, 5 U.S.C. App. 2, and the General Services Administration (GSA) rule of Federal Advisory Committee Management, 41 CFR part 102-3, and after consultation with GSA, the Secretary of Commerce has determined that the establishment of the National Oceanic and Atmospheric Administration (NOAA) Advisory Committee on Commercial Remote Sensing (ACCRES) is in the public interest, in connection with the performance of duties imposed on the Department by law.

The ACCRES will advise the Secretary, through the Under Secretary of Commerce for Oceans and Atmosphere, on long- and short-range strategies for the licensing of commercial remote-sensing satellite systems. The ACCRES will consist of no more than 15, and no less than 12, members to be appointed by the Under Secretary to assure a balanced representation among commercial remote-sensing satellite operators, data users, value-added resellers, academic and technical experts, and information technology firms. The ACCRES will function solely as an advisory body, and in compliance with the provisions of the Federal Advisory Committee Act. Its charter will be filed under the Act, fifteen days from the date of publication of this notice.

FOR FURTHER INFORMATION CONTACT: Interested persons are invited to submit comments regarding the establishment of this committee to Timothy Stryker, Acting Remote-Sensing Licensing Coordinator, NOAA/NESDIS International and Interagency Affairs, 1335 East West Highway, Room 7311, Silver Spring, Maryland 20910; telephone 301-713-2024 x.205, e-mail Timothy.Stryker@noaa.gov.

Mary M. Glackin,
Deputy Assistant Administrator for Satellite and Information Services.

[FR Doc. 02-10268 Filed 4-25-02; 8:45 am]

BILLING CODE 3510-HR-P